EXPORT-IMPORT BANK

Notice of Open Meeting of the Sub-Saharan Africa Advisory Committee of the Export-Import Bank of the United States (EXIM)

Time and Date: Tuesday, June 16, 2020 from 1:00-2:00 p.m. EDT.

Place: The meeting will be held via teleconference and audio-only webinar.

Agenda: Discussion of EXIM Bank policies and programs designed to support the expansion of financing support for U.S. manufactured goods and services in Sub-Saharan Africa.

Public Participation: The meeting will be open to public participation and time will be allotted for questions or comments submitted online. Members of the public may also file written statements before or after the meeting to external@exim.gov. Interested parties may register for the meeting at https://attendee.gotowebinar.com/register/3240658097788674319.

Further Information: For further information, contact the Office of External Engagement at external@exim.gov.

Joyce Stone,
Assistant Corporate Secretary.

[FR Doc. 2020-11579 Filed 5-28-20; 8:45 am]

BILLING CODE 6690-01-P